INTERNATIONAL TRADE COMMISSION

[Investigation No. 731-TA-1279 (Final)]

Hydrofluorocarbon Blends and Components From China; Determination

On the basis of the record ¹ developed in the subject investigation, the United States International Trade Commission (“Commission”) determines, pursuant to the Tariff Act of 1930 (“the Act”), that an industry in the United States is materially injured by reason of imports of hydrofluorocarbon (“HFC”) blends from China, provided for in subheading 3824.78.00 of the Harmonized Tariff Schedule of the United States, that have been found by the Department of Commerce (“Commerce”) to be sold in the United States at less than fair value (“LTFV”).² The Commission further determines that a U.S. industry is not materially injured or threatened with material injury by reason of imports of HFC components from China.

¹ The record is defined in sec. 207.2(f) of the Commission's Rules of Practice and Procedure (19 CFR 207.2(f)).

² The Commission also finds that imports subject to Commerce's affirmative critical circumstances determination are not likely to undermine seriously the remedial effect of the antidumping duty order on HFC blends from China.

Background

The Commission, pursuant to section 735(b) of the Act (19 U.S.C. 1673d(b)), instituted this investigation effective June 25, 2015, following receipt of a petition filed with the Commission and Commerce by the American HFC Coalition, and its members: Amtrol, Inc., West Warwick, Rhode Island; Arkema, Inc., King of Prussia, Pennsylvania; The Chemours Company FC, LLC, Wilmington, Delaware; Honeywell International Inc., Morristown, New Jersey; Hudson Technologies, Pearl River, New York; Mexichem Fluor Inc., St. Gabriel, Louisiana; Worthington Industries, Inc., Columbus, Ohio; and District Lodge 154 of the International Association of Machinists and Aerospace Workers.³ The Commission scheduled the final phase of the investigation following notification of a preliminary determination by Commerce that imports of hydrofluorocarbon blends and components from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of March 1, 2016 (81 FR 10662). The hearing was held in Washington, DC, on June 21, 2016, and all persons who requested the opportunity were permitted to appear in person or by counsel.

³ The Commission did not grant Amtrol, Inc. and Worthington Industries, Inc. interested party status because neither qualifies as an interested party under 19 U.S.C. 1677(9). Neither firm produces or blends the subject products.

The Commission made this determination pursuant to section 735(b) of the Act (19 U.S.C. 1673d(b)). It completed and filed its determination in this investigation on August 5, 2016. The views of the Commission are contained in USITC Publication 4629 (August 2016), entitled Hydrofluorocarbon Blends and Components from China: Investigation No. 731-TA-1279 (Final).

By order of the Commission.
Issued: August 5, 2016
William R. Bishop,
Supervisory Hearings and Information Officer.

[FR Doc. 2016-19064 Filed 8-10-16; 8:45 am]

BILLING CODE 7020-02-P